DEPARTMENT OF HOMELAND SECURITY

Coast Guard

33 CFR Part 100

[Docket No. USCG-2021-0116]

Special Local Regulations; Charleston Race Week, Charleston, SC

AGENCY: Coast Guard, Department of Homeland Security (DHS).

ACTION: Notice of enforcement of regulation.

SUMMARY: The Coast Guard will enforce special local regulations for the Charleston Race Week from April 8, 2021 through April 11, 2021. This action is necessary to ensure the safety of life on navigable waters of the United States during the Charleston Race Week event. Our regulation for marine events within the Seventh Coast Guard District identifies the regulated area for this event in Charleston, SC. During the enforcement period, no person or vessel may enter, transit through, anchor in, or remain within the designated area unless authorized by the Captain of the Port Charleston (COTP) or a designated representative.

DATES: The regulations in 33 CFR 100.704, Table 1 to § 100.704, Item No. 2, will be enforced from 9:00 a.m. until 5:00 p.m. each day from April 8, 2021 to April 11, 2021.

FOR FURTHER INFORMATION CONTACT: If you have questions about this notice of enforcement, call or email LT Chad Ray, Sector Charleston Office of Waterways Management, Coast Guard; telephone (843) 740-3184, email Chad.L.Ray@uscg.mil.

SUPPLEMENTARY INFORMATION: The Coast Guard will enforce the special local regulation in 33 CFR 100.704, Table 1 to § 100.704, Item No. 2, for the Charleston Race Week regulated area from 9:00 a.m. to 5:00 p.m. from April 8, 2021 to April 11, 2021. This action is being taken to provide for the safety of life on navigable waterways during this 4-day event. The regulation for marine events within the Captain of the Port Charleston, § 100.704, specifies the locations of the regulated areas for the Charleston Race Week which encompasses portions of the Charleston Harbor. During the enforcement periods, as reflected in § 100.704, if you are the operator of a vessel in the regulated area you must comply with directions from the Patrol Commander or any Official Patrol displaying a Coast Guard ensign.

Dated: March 17, 2021.
J.D. Cole,
Captain, U.S. Coast Guard, Captain of the Port Charleston.

[FR Doc. 2021-05881 Filed 3-23-21; 8:45 am]

BILLING CODE 9110-04-P